FEDERAL MARITIME COMMISSION

Ocean Transportation Intermediary License Reissuances

The Commission gives notice that the following Ocean Transportation Intermediary license has been reissued pursuant to section 19 of the Shipping Act of 1984 (46 U.S.C. 40101).

License No.: 024464F.

Name: Seahorse Forwarding Ltd.

Address: One Euclid Road, Fort Lee, NJ 07024.

Date Reissued: August 11, 2014.

Sandra L. Kusumoto,
Director, Bureau of Certification and Licensing.

[FR Doc. 2014-22384 Filed 9-18-14; 8:45 am]

BILLING CODE 6730-01-P